DEPARTMENT OF THE INTERIOR

National Park Service

[N6905; NPS-WASO-NAGPRA-NPS0041935; PPWOCRADN0-PCU00RP14.R50000]

Notice of Intended Repatriation: Pennsylvania Historical and Museum Commission, State Museum of Pennsylvania, Harrisburg, PA

AGENCY: National Park Service, Interior.

ACTION: Notice.

SUMMARY: In accordance with the Native American Graves Protection and Repatriation Act (NAGPRA), The State Museum of Pennsylvania intends to repatriate certain cultural items that meet the definition of unassociated funerary objects and that have a cultural affiliation with the Indian Tribes or Native Hawaiian organizations in this notice.

DATES: Repatriation of the cultural items in this notice may occur on or after March 4, 2026.

ADDRESSES: Send additional, written requests for repatriation of the cultural items in this notice to Cherilyn Gilligan, PHMC, The State Museum of Pennsylvania, 400 North Street, Floor 2, Harrisburg, PA 17120, email phmcnagpra@pa.gov.

SUPPLEMENTARY INFORMATION: This notice is published as part of the National Park Service's administrative responsibilities under NAGPRA. The determinations in this notice are the sole responsibility of The State Museum of Pennsylvania, and additional information on the determinations in this notice, including the results of consultation, can be found in the summary or related records. The National Park Service is not responsible for the determinations in this notice.

Abstract of Information Available

A total of 10 lots of cultural items have been requested for repatriation. Museum records do not indicate the use of hazardous substances on any of these cultural items.

From 1969-1972, one lot of unassociated funerary objects were removed from Minisink Island (28Sx28) in Sussex County, NJ by Society for Pennsylvania Archaeology, Lenape Chapter 12. The cultural items are personal adornments, pipes, faunal, pottery, and groundstone. These items have been housed at The State Museum of Pennsylvania since 2013 under accession 2014.50.

From 1969-1972, one lot of unassociated funerary objects were removed from Minisink Island (28Sx28) in Sussex County, NJ by Society for Pennsylvania Archaeology, Lenape Chapter 12. The unassociated funerary objects are chipped stone, groundstone, pottery, unmodified natural rock, pigment, charcoal, and pipes. These items have been housed at The State Museum of Pennsylvania since 2004 under accession 2004.64.

From 1967-1968, one lot of unassociated funerary objects were removed from the Bell-Browning Post/Bell-Philhower site (28Sx48) in Sussex County, NJ by Society for Pennsylvania Archaeology, Lenape Chapter 12. The cultural items are faunal remains, chipped stone, and pottery. These items have been housed at The State Museum of Pennsylvania since 2004 under accession 2004.64.

From 1967-1968, one lot of unassociated funerary objects were removed from the Bell-Browning Post/Bell-Philhower site (28Sx48) in Sussex County, NJ by Society for Pennsylvania Archaeology, Lenape Chapter 12. The unassociated funerary objects are chipped stone, groundstone, pottery, faunal remains, botanical remains, unmodified natural rock, ochre, and charcoal. These items have been housed at The State Museum of Pennsylvania since 2013 under accession 2014.50.

From 1967-1968, one lot of unassociated funerary objects were removed from the Herring site (28Sx428) in Sussex County, NJ by The Society for Pennsylvania Archaeology, Lenape Chapter 12. The cultural items are faunal remains, chipped stone, pottery, natural stones, ochre, and charcoal. These items have been housed at The State Museum of Pennsylvania since 2013 under accession 2014.50.

In the 1960s or 1970s one lot of unassociated funerary objects were removed from the Santos 2 site (36Pi2) in Pike County, PA by Society for Pennsylvania Archaeology, Lenape Chapter 12. The cultural items are chipped, stone, pipes, and groundstone. These items have been housed at The State Museum of Pennsylvania since 2004 under accession 2004.64.

In the 1960s or 1970s one lot of unassociated funerary objects were removed from the Santos 2 site (36Pi2) in Pike County, PA and possibly other sites in Sussex County, NJ by Society for Pennsylvania Archaeology, Lenape Chapter 12. The unassociated funerary objects are pottery, groundstone, pipes, modified faunal material, chipped stone, historic trade items, pigment, and personal adornments. These items have been housed at The State Museum of Pennsylvania since 2019 under accession 2024.32.

In 2010, one lot of unassociated funerary objects were removed from the Santos 2 site (36Pi2) in Pike County, PA by archaeological consultant Gray & Pape, Inc. The unassociated funerary objects are chipped stone, pottery, organic remains, groundstone, and charcoal. These items have been housed at The State Museum of Pennsylvania since 2013 under catalog 36PI0002/22-105.

In 1960 one lot of unassociated funerary objects were removed from the Manna site (36Pi4) in Pike County, PA by Society for Pennsylvania Archaeology, Lenape Chapter 12. The cultural items are pipes, pottery, and groundstone. These items have been housed at The State Museum of Pennsylvania since 2004 under accession 2004.64.

In c. 1931 one lot of unassociated funerary objects were removed from various locations in Pike County, PA by Max Schrabisch. The cultural items are faunal remains, pottery, chipped stone, groundstone. These items have been housed at The State Museum of Pennsylvania since 1931 under accessions 60.22 and 08.5. An unknown number of items may be missing from this collection and PHMC staff continue to look for them.

Determinations

The State Museum of Pennsylvania has determined that:

• The 10 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Delaware Nation, Oklahoma; Delaware Tribe of Indians; and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 4, 2026. If competing requests for repatriation are received, The State Museum of Pennsylvania must determine the most appropriate requestor prior to repatriation. Requests for joint repatriation of the cultural items are considered a single request and not competing requests. The State Museum of Pennsylvania is responsible for sending a copy of this notice to the Indian Tribes and Native Hawaiian organizations identified in this notice and to any other consulting parties.

Authority: Native American Graves Protection and Repatriation Act, 25 U.S.C. 3004 and the implementing regulations, 43 CFR 10.9.

Dated: January 22, 2026.
Melanie O'Brien,
Manager, National NAGPRA Program.

[FR Doc. 2026-02020 Filed 1-30-26; 8:45 am]

BILLING CODE 4312-52-P